DEPARTMENT OF THE INTERIOR

National Park Service

[NPS-WASO-NAGPRA-NPS0037197; PPWOCRADN0-PCU00RP14.R50000]

Notice of Inventory Completion: Bonanzaville, Cass County Historical Society, West Fargo, ND

AGENCY: National Park Service, Interior.

ACTION: Notice.

SUMMARY: In accordance with the Native American Graves Protection and Repatriation Act (NAGPRA), Bonanzaville, Cass County Historical Society (Bonanzaville) has completed an inventory of human remains and has determined that there is a cultural affiliation between the human remains and Indian Tribes in this notice. The human remains were removed from unknown locations in either North Dakota or South Dakota.

DATES: Repatriation of the human remains in this notice may occur on or after February 7, 2024.

ADDRESSES: David Hubin, Curator, Bonanzaville, Cass County Historical Society, 1351 Main Avenue West, West Fargo, ND 58078, telephone (701) 282-2822, email dhubin@bonanzaville.com.

SUPPLEMENTARY INFORMATION: This notice is published as part of the National Park Service's administrative responsibilities under NAGPRA. The determinations in this notice are the sole responsibility of Bonanzaville. The National Park Service is not responsible for the determinations in this notice. Additional information on the determinations in this notice, including the results of consultation, can be found in the inventory or related records held by Bonanzaville.

Description

On an unknown date, human remains representing, at minimum, one individual were removed from an unknown location. The human remains, a bracelet made of human finger and toe bones, were loaned to the State Teachers College in Moorhead, MN, which would later become the Clay County Historical Society in Moorhead, MN, by Usher Burdick. It was part of a larger collection of Native American items loaned by Burdick for display starting in 1930. In 1970, at the request of Quentin Burdick (Usher's son), the collection was transferred to the Cass County Historical Society, ND, for display in their new Native American Museum with full ownership. The finger bone bracelet is mentioned in several early inventories, but no other information is given on how Usher Burdick received the items. No known individuals were identified. No associated funerary objects are present.

Usher Burdick was a member of the North Dakota State House of Representatives from 1907 to 1911 and served as Speaker in 1909. He was Lieutenant Governor of North Dakota from 1911 to 1913 and served as assistant United States district attorney for North Dakota from 1929 to 1932. Burdick was a State Representative for North Dakota from 1935 to 1944 and again from 1949-1959. His service to North Dakota led him to many relationships with tribal leaders in North and South Dakota who either gave him or sold him Native American items. We can only assume that these human remains were given to him in the same manner.

A physical examination of the human remains by Phoebe Stubblefield, Professor of Forensic Anthropology at the University of North Dakota and Paul Picha, Chief Anthropologist at the State Historical Society of North Dakota revealed some additional clues. They confirmed the bones to be human and the bracelet contains a combination of first distal phalange from thumbs and first toe and distal phalange from other four digits. Stubblefield concluded that the human remains had spent some time buried and may have spent some time on a scaffold. Each bone has had a precise hole drilled suggesting a modern drill bit. Both Stubblefield and Picha estimate the age to be 100-150 years old based on native customs and the decomposition of the bones. Based on the physical evidence, we could not determine race or tribal affiliation. Because of its inclusion in the Native American collection given by Burdick and his collecting habits, staff has deduced that the human remains are Native American remains from a North Dakota or South Dakota Tribe.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, Bonanzaville has determined that:

• The human remains described in this notice represent the physical remains of one individual of Native American ancestry.

• There is a relationship of shared group identity that can be reasonably traced between the human remains described in this notice and the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Oglala Sioux Tribe; Rosebud Sioux Tribe of the Rosebud Indian Reservation, South Dakota; Sisseton-Wahpeton Oyate of the Lake Traverse Reservation, South Dakota; Spirit Lake Tribe, North Dakota; Standing Rock Sioux Tribe of North & South Dakota; Three Affiliated Tribes of the Fort Berthold Reservation, North Dakota; Turtle Mountain Band of Chippewa Indians of North Dakota; and the Yankton Sioux Tribe of South Dakota.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 7, 2024. If competing requests for repatriation are received, Bonanzaville must determine the most appropriate requestor prior to repatriation. Requests for joint repatriation of the human remains are considered a single request and not competing requests. Bonanzaville is responsible for sending a copy of this notice to the Indian Tribes identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00126 Filed 1-5-24; 8:45 am]

BILLING CODE 4312-52-P